DEPARTMENT OF AGRICULTURE

Submission for OMB Review; Comment Request

January 21, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by February 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Collaborative Forest Landscape Restoration Program.

OMB Control Number: 0596-0245.

Summary of Collection: The Collaborative Forest Landscape Restoration Program (CFLRP) is a USDA program started in 2010 to encourage collaborative groups of neighboring landowners, state, local and tribal government representatives, businesses, interest groups, and nonprofit organizations, to work with the Forest Service to find common ground pertaining to geographically extensive forest restoration. The Southwestern Crown Collaborative (SWCC) is one of 24 Collaborative Forest Landscape Restoration (CFLR) projects across the nation currently. In the CFLRP projects, collaborators and other partners work with the Forest Service to implement restoration work and multi-party monitoring of the restoration.

The Forest Landscape Restoration Act (FLRA) of 2009 (16 U.S.C. 7303), which enabled the CFLRP, requires monitoring “to assess the positive or negative ecological, social, and economic effects of projects implementing a selected proposal for not less than 15 years after project implementation commences.” The proposed information collection will help meet the CFLRP projects' obligation for monitoring the social impacts on residents and stakeholders of activities conducted under the CFLRP. It is critical for managers to understand the social impacts of their decisions to allow for adaptive management and improve future outcomes. The scope of the survey includes residents of communities within and adjacent to CFLRP landscapes and collaborative participants.

Need and Use of the Information: The information collection methods used will be:

1. Mail and Electronic Monitoring Survey: Respondents will be given the option of completing an online version of the monitoring instrument; those choosing not to respond online will be given the option of completing a paper version.

2. Non-Response Checks: Data will be analyzed for non-response bias and a small subset of respondents will be sampled via phone and asked a small number of monitoring questions (<5 minutes each).

This is an extension renewal without revisions of an information collection that will be conducted by the University of Montana's Bureau of Business and Economic Research (BBER) in conjunction with UM's College of Forestry and Conservation. The purpose is twofold: (1) To meet our obligations under the CFLRP to monitor social impacts, and (2) to provide feedback to Forest Service managers about the activities, including the decision making processes, conducted under the CFLRP. Through an adaptive management process recommended by the authors of the FLRA, this information can be used to improve processes and actions on future restoration projects. The results will be analyzed and published in a final report available for use by federal and state policy makers and by the general public.

Description of Respondents: Individuals or households.

Estimated Number of Respondents: 2,330.

Frequency of Responses: Reporting: Annually.

Total Burden Hours: 320 hours.

Levi S. Harrell,
Departmental Information Collection Clearance Officer.

[FR Doc. 2021-01735 Filed 1-26-21; 8:45 am]

BILLING CODE 3411-15-P